DEPARTMENT OF COMMERCE

Foreign-Trade Zones Board

[S-8-2016]

Foreign-Trade Zone 279—Terrebonne Parish, Louisiana; Application for Subzone; Thoma-Sea Marine Constructors, LLC, Houma and Lockport, Louisiana

An application has been submitted to the Foreign-Trade Zones (FTZ) Board by the Houma-Terrebonne Airport Commission, grantee of FTZ 279, requesting subzone status for the facilities of Thoma-Sea Marine Constructors, LLC, located in Houma and Lockport, Louisiana. The application was submitted pursuant to the provisions of the Foreign-Trade Zones Act, as amended (19 U.S.C. 81a-81u), and the regulations of the FTZ Board (15 CFR part 400). It was formally docketed on January 28, 2016.

The proposed subzone would consist of the following sites in Terrebonne and Lafourche Parishes: Site 1 (14.44 acres)—137 Barry Belanger Street (1874 Industrial Boulevard), Houma; Site 2 (63.758 acres)—6130 Louisiana Highway 308, Lockport; Site 3 (21.8 acres)—429 Rome Woodard Street (429 Main Port Court), Houma; and, Site 4 (18.377 acres)—139 Joe Brown Road, Lockport. The proposed subzone would be subject to the existing activation limit of FTZ 279. A notification of proposed production activity has been submitted and will be published separately for public comment.

In accordance with the FTZ Board's regulations, Camille Evans of the FTZ Staff is designated examiner to review the application and make recommendations to the Executive Secretary.

Public comment is invited from interested parties. Submissions shall be addressed to the FTZ Board's Executive Secretary at the address below. The closing period for their receipt is March 14, 2016. Rebuttal comments in response to material submitted during the foregoing period may be submitted during the subsequent 15-day period to March 29, 2016.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Camille Evans at Camille.Evans@trade.gov or (202) 482-2350.

Dated: January 28, 2016.
Andrew McGilvray,
Executive Secretary.

[FR Doc. 2016-02058 Filed 2-2-16; 8:45 am]

BILLING CODE 3510-DS-P